DEPARTMENT OF COMMERCE

National Oceanic and Atmospheric Administration

RIN 0648-XG241

Marine Mammals; File No. 21856

AGENCY: National Marine Fisheries Service (NMFS), National Oceanic and Atmospheric Administration (NOAA), Commerce.

ACTION: Notice; receipt of application.

SUMMARY: Notice is hereby given that ABR, Inc. Environmental Research and Services, P.O. Box 80410, Fairbanks, AK 99708, has applied in due form for a permit to conduct research on 12 species of marine mammals.

DATES: Written, telefaxed, or email comments must be received on or before July 2, 2018.

ADDRESSES: The application and related documents are available for review by selecting “Records Open for Public Comment” from the “Features” box on the Applications and Permits for Protected Species (APPS) home page, https://apps.nmfs.noaa.gov, and then selecting File No. 21856 from the list of available applications.

These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), and the Fur Seal Act of 1966, as amended (16 U.S.C. 1151 et seq.).

The applicant proposes to conduct unmanned aircraft systems (UAS) and manned aerial surveys in Kamishak Bay, Alaska to collect baseline seasonal abundance and distribution data on marine mammals. The applicant proposes to take marine mammals during aerial surveys for behavioral observations, photography, counts, and videography. The applicant requests the annual take of 12 species: 1,050 endangered Western DPS Steller sea lions (Eumetopias jubatus), 150 endangered Cook Inlet beluga whales (Delphinapterus leucas), 10,139 harbor seals (Phoca vitulina), 600 harbor porpoises (Phocoena phocoena), 150 Dall's porpoises (Phocoenoides dalli), 130 minke whales (Balaenoptera acutorostrata), 60 eastern North Pacific gray whales (Eschrichtius robustus), 130 killer whales (Orcinus orca), 15 northern fur seals (Callorhinus ursinus), 25 California sea lions (Zalophus californianus), 40 endangered fin whales (Balaenoptera physalus), 150 humpback whales (Megaptera novaeangliae) from the endangered Western North Pacific DPS, threatened Mexico DPS, or Hawaii DPS, and two endangered North Pacific right whales (Eubalaena japonica). The permit would be valid for five years from the date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 24, 2018.
Julia Marie Harrison,
Chief, Permits and Conservation Division, Office of Protected Resources, National Marine Fisheries Service.

[FR Doc. 2018-11640 Filed 5-30-18; 8:45 am]

BILLING CODE 3510-22-P